FEDERAL COMMUNICATIONS COMMISSION

47 CFR Part 73

[MB Docket No. 05-245, RM-11264, RM-11357; FCC 14-156]

Radio Broadcasting Services; Corona de Tucson, Sierra Vista, Tanque Verde, Vail, Arizona; Animus, Lordsburg, and Virden, New Mexico

AGENCY: Federal Communications Commission.

ACTION: Final rule; application for review.

SUMMARY: The Federal Communications Commission (“Commission”) dismisses in part and otherwise denies the Application for Review filed by CCR-Sierra Vista IV, LLC (“CCR-Sierra”) of the Media Bureau (“Bureau”)'s rejection of CCR-Sierra's proposal to change the community of license of its Station KZMK(FM) from Sierra Vista to Tanque Verde, Arizona, and grant of a conflicting Counterproposal filed by Cochise Broadcasting, LLC and Desert West Air Ranchers (“Joint Parties”). See SUPPLEMENTARY INFORMATION, supra.

DATES: Effective October 31, 2014.

FOR FURTHER INFORMATION CONTACT: Andrew J. Rhodes, Media Bureau, (202) 418-2700.

SUPPLEMENTARY INFORMATION: This is a synopsis of the Commission's Memorandum Opinion and Order, FCC 14-156, adopted October 14, 2014, and released October 15, 2014. The full text of this document is available for inspection and copying during normal business hours in the FCC Reference Information Center (Room CY-A257), 445 12th Street SW., Washington, DC 20554. The complete text of this document may also be purchased from the Commission's copy contractor, Best Copy and Printing, Inc., Portals II, 445 12th Street SW., Room CY-B402, Washington, DC 20554, telephone 1-800-378-3160 or http://www.bcpiweb.com.

In the Report and Order in this proceeding, the Bureau compared the mutually exclusive proposals under the FM Allotment Priorities and granted the Joint Parties Counterproposal because it would provide greater public interest benefits. The Bureau also rejected CCR-Sierra's arguments that the Joint Parties Counterproposal was defective because: (1) There would not be city-grade coverage at two communities, (2) Federal Aviation Administration approval could not be obtained for one of the allotments; (3) there would be difficulty in obtaining Mexican concurrence for one allotment; (4) Animus, New Mexico, is not a community for allotment purposes; and (5) for one of the change of community proposals, there was no mutual exclusivity between the move-out and move-in communities. See 72 FR 53688, September 20, 2007. CCR-Sierra sought reconsideration on the same five grounds, and the Bureau denied these objections.

In its Application for Review, CCR-Sierra reiterates these five arguments. The Commission finds that these issues were properly decided and upholds the Bureau's decision for the stated reasons. The Commission also dismisses a sixth argument on procedural grounds because the Bureau had no opportunity to pass on it in violation of § 1.115(c) of the Commission's rules.

This document does not contain information collection requirements subject to the Paperwork Reduction Act of 1995, Public Law 104-13. This document is not subject to the Congressional Review Act. (The Commission, is, therefore, not required to submit a copy of the Memorandum Opinion and Order to GAO, pursuant to the Congressional Review Act, see 5 U.S.C. 801(a)(1)(A) because the Application for Review was denied.)

Federal Communications Commission.
Marlene H. Dortch,
Secretary, Office of the Secretary, Office of Managing Director.

[FR Doc. 2014-25952 Filed 10-30-14; 8:45 am]

BILLING CODE 6712-01-P